DEPARTMENT OF HOMELAND SECURITY

Office of the Secretary

Privacy Act of 1974; Retirement of Department of Homeland Security Federal Emergency Management Agency System of Records

AGENCY: Privacy Office, DHS.

ACTION: Notice of retirement of a Privacy Act system of records notice.

SUMMARY: In accordance with the Privacy Act of 1974 the Department of Homeland Security is giving notice that it proposes to retire Department of Homeland Security Federal Emergency Management Agency U.S. Fire Administration—001 9/11 Heroes Stamp Act of 2001 System of Records, July 26, 2005.

DATES: Effective Date: April 9, 2010.

FOR FURTHER INFORMATION CONTACT: For general questions please contact: Delia Davis (202-646-3808), Privacy Officer, Federal Emergency Management Agency, Department of Homeland Security, Washington, DC 20472. For privacy issues please contact: Mary Ellen Callahan (703-235-0780), Chief Privacy Officer, Privacy Office, U.S. Department of Homeland Security, Washington, DC 20528.

SUPPLEMENTARY INFORMATION: Pursuant to the provisions of the Privacy Act of 1974, 5 U.S.C. 552a, the Department of Homeland Security (DHS) Federal Emergency Management Agency (FEMA) U.S. Fire Administration (USFA) is giving notice that it proposes to retire DHS/FEMA/USFA—001 9/11 Heroes Stamp Act of 2001 System of Records (70 FR 43218, July 26, 2005).

This system was originally established to collect and maintain records for the purpose of determining an individual applicant's qualification for and/or compensation to benefits under the 9/11 Heroes Stamp Act of 2001. While this fund originated through legislation, all funds have now been exhausted so the program is closed pursuant to the originating legislation. The legislation stated that all funds collected through the sale of the 9/11 Heroes Stamp be distributed.

The records in the system are considered permanent Federal Government records, as 9/11 records are permanent records. NARA will not destroy the records once the system is retired and records are transferred. In accordance with the records schedule for the 9/11 Heroes Stamp Act of 2001 File System, records are transferred to NARA one year and six months after the closure of the file. All records within this system will be archived under records schedule number N1-311-04-05.

Retiring this system of records notice will have no adverse impacts on individuals, but will promote the overall streamlining and management of DHS Privacy Act systems of records.

Dated: March 1, 2010.
Mary Ellen Callahan,
Chief Privacy Officer, Department of Homeland Security.

[FR Doc. 2010-5010 Filed 3-9-10; 8:45 am]

BILLING CODE 9110-17-P